ENVIRONMENTAL PROTECTION AGENCY

[ER-FRL-9052-3]

Environmental Impact Statements; Notice of Availability

Responsible Agency: Office of Federal Activities, General Information 202-564-5632 or https://www.epa.gov/nepa.

Weekly receipt of Environmental Impact Statements (EIS) Filed August 3, 2020, 10 a.m. EST Through August 10, 2020, 10 a.m. EST Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200163, Draft Supplement, BR, CA, B.F. Sisk Dam Raise and Reservoir Expansion Project Environmental Impact Report/Supplemental Environmental Impact Statement, Comment Period Ends: 09/28/2020, Contact: Casey Arthur 530-892-6202.

EIS No. 20200164, Final Supplement, USFS, ND, Northern Great Plains Management Plans Revision Final Supplemental Environmental Impact Statement for Oil and Gas Leasing, Review Period Ends: 10/01/2020, Contact: Macario Herrera 701-989-7310.

EIS No. 20200165, Draft, USFS, ID, Stibnite Gold Project, Comment Period Ends: 09/28/2020, Contact: Brian Harris 208-879-6945.

EIS No. 20200166, Final, BLM, AK, Willow Master Development Plan Final Environmental Impact Statement, Review Period Ends: 09/14/2020, Contact: Racheal Jones 907-290-0307.

EIS No. 20200167, Final, TVA, TN, Gallatin Impoundment Closure, Review Period Ends: 09/14/2020, Contact: Elizabeth Smith 865-632-3053.

Dated: August 11, 2020.
Cindy S. Barger,
Director, NEPA Compliance Division, Office of Federal Activities.

[FR Doc. 2020-17812 Filed 8-13-20; 8:45 am]

BILLING CODE 6560-50-P